PEACE CORPS

Information Collection Request; Submission for OMB Review

AGENCY: Peace Corps.

ACTION: 30-Day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995.

DATES: Submit comments on or before July 18, 2024.

ADDRESSES: Comments should be addressed to James Olin, FOIA/Privacy Act Officer. James Olin can be contacted by phone 202-692-2507 or email at pcfr@peacecorps.gov. Email comments must be made in text and not in attachments.

FOR FURTHER INFORMATION CONTACT: James Olin, Peace Corps, at pcfr@peacecorps.gov or by telephone at (202) 692-2507.

SUPPLEMENTARY INFORMATION:

Title: Individual Specific Medical Evaluation Forms (15).

OMB Control Number: 0420-0550.

Type of Request: Revision/New.

Affected Public: Individuals/Physicians.

Respondents Obligation to Reply: Voluntary.

Respondents: Potential and current volunteers.

Burden to the Public:

• Asthma Evaluation Form

(a) Estimated number of Applicants/physicians 700/700

(b) Frequency of response one time

(c) Estimated average burden per response 75 minutes/30 minutes

(d) Estimated total reporting burden 875 hours/350 hours

(e) Estimated annual cost to respondents Indeterminate

General Description of Collection: When an Applicant reports on the Health History Form any history of asthma, he or she will be provided an Asthma Evaluation Form for the treating physician to complete The Asthma Evaluation Form asks for the physician to document the Applicant's condition of asthma, including any asthma symptoms, triggers, treatments, or limitations or restrictions due to the condition. This form will be used as the basis for an individualized determination as to whether the Applicant will, with reasonable accommodation, be able to perform the essential functions of a Peace Corps Volunteer and complete a tour of service without unreasonable disruption due to health problems. This form will also be used to determine the type of accommodation that may be needed, such as placement of the Applicant within reasonable proximity to a hospital in case treatment is needed for a severe asthma attack.

• Diabetes Diagnosis Form

(a) Estimated number of Applicants/physicians 55/55

(b) Frequency of response one time

(c) Estimated average burden per response 75 minutes/30 minutes

(d) Estimated total reporting burden 69 hours/28 hours

(e) Estimated annual cost to respondents Indeterminate

General Description of Collection: When an Applicant reports the condition of diabetes Type 1 on the Health History Form, the Applicant will be provided a Diabetes Diagnosis Form for the treating physician to complete. In certain cases, the Applicant may also be asked to have the treating physician complete a Diabetes Diagnosis Form if the Applicant reports the condition of diabetes Type 2 on the Health History Form. The Diabetes Diagnosis Form asks the physician to document the diabetes diagnosis, etiology, possible complications, and treatment. This form will be used as the basis for an individualized determination as to whether the Applicant will, with reasonable accommodation, be able to perform the essential functions of a Peace Corps Volunteer assignment and complete a tour of service without unreasonable disruption due to health problems. This form will also be used to determine the type of accommodation that may be needed, such as placement of an Applicant who requires the use of insulin in order to ensure that adequate insulin storage facilities are available at the Applicant's site.

• Transfer of Care—Request for Information Form

(a) Estimated number of Applicants/physicians 1270/1270

(b) Frequency of response one time

(c) Estimated average burden per response 75 minutes/30 minutes

(d) Estimated total reporting burden 1588 hours/635 hours

(e) Estimated annual cost to respondents Indeterminate

General Description of Collection: When an Applicant reports on the Health History Form a medical condition of significant severity (other than one covered by another form), he or she may be provided the Transfer of Care—Request for Information Form for the treating physician to complete. The Transfer of Care—Request for Information Form may also be provided to an Applicant whose responses on the Health History Form indicate that the Applicant may have an unstable medical condition that requires ongoing treatment. The Transfer of Care—Request for Information Form asks the physician to document the diagnosis, current treatment, physical limitations and the likelihood of significant progression of the condition over the next three years. This form will be used as the basis for an individualized determination as to whether the Applicant will, with reasonable accommodation, be able to perform the essential functions of a Peace Corps Volunteer assignment and complete a tour of service without unreasonable disruption due to health problems. This form will also be used to determine the type of accommodation (e.g., avoidance of high altitudes or proximity to a hospital) that may be needed to manage the Applicant's medical condition.

• Mental Health Current Evaluation and Treatment Summary Form

(a) Estimated number of Applicants/professional 1221/1221

(b) Frequency of response one time

(c) Estimated average burden per response 105 minutes/60 minutes

(d) Estimated total reporting burden 2137 hours/1221 hours

(e) Estimated annual cost to respondents Indeterminate

General Description of Collection: The Mental Health Current Evaluation Form will be used when an Applicant reports on the Health History Form a history of certain serious mental health conditions, such as bipolar disorder, schizophrenia, mental health hospitalization, attempted suicide or cutting, or treatments or medications related to these conditions. In these cases, an Applicant will be provided a Mental Health Current Evaluation and Treatment Summary Form for a licensed mental health counselor, psychiatrist or psychologist to complete. The Mental Health Current Evaluation and Treatment Summary Form asks the counselor, psychiatrist or psychologist to document the dates and frequency of therapy sessions, clinical diagnoses, symptoms, course of treatment, psychotropic medications, mental health history, level of functioning, prognosis, risk of exacerbation or recurrence while overseas, recommendations for follow up and any concerns that would prevent the Applicant from completing 27 months of service without unreasonable disruption. A current mental health evaluation might be needed if information on the condition is out-dated or previous reports on the condition do not provide enough information to adequately assess the current status of the condition. This form will be used as the basis for an individualized determination as to whether the Applicant will, with reasonable accommodation, be able to perform the essential functions of a Peace Corps Volunteer and complete a tour of service without unreasonable disruption due to health problems. This form will also be used to determine the type of accommodation that may be needed, such as placement of the Applicant in a country with appropriate mental health support.

• Functional Abilities Evaluation Form

(a) Estimated number of Applicants/professional 300/300

(b) Frequency of response one time

(c) Estimated average burden per response 90 minutes/45 minutes

(d) Estimated total reporting burden 390 hours/225 hours

(e) Estimated annual cost to respondents Indeterminate

General Description of Collection: When an Applicant reports on the Health History Form a functional ability limitation he or she will be provided this form to determine the type of accommodation and/or placement program support (e.g., proximity to program site, support support devices) that may be needed to manage the Applicant's medical condition.. This form will be used as the basis for an individualized determination as to whether the Applicant will, with reasonable accommodation, be able to perform the essential functions of a Peace Corps Volunteer assignment and complete a tour of service without unreasonable disruption due to health problems.

• Eating Disorder Treatment Summary Form

(a) Estimated number of Applicants/physicians 282/282

(b) Frequency of response one time

(c) Estimated average burden per response 105 minutes/60 minutes

(d) Estimated total reporting burden 494 hours/282 hours

(e) Estimated annual cost to respondents Indeterminate

General Description of Collection: The Eating Disorder Treatment Summary will be used when an Applicant reports a past or current eating disorder diagnosis in the Health History Form. In these cases the Applicant is provided an Eating Disorder Treatment Summary Form for a mental health specialist, preferably with eating disorder training, to complete. The Eating Disorder Treatment Summary Form asks the mental health specialist to document the dates and frequency of therapy sessions, clinical diagnoses, presenting problems and precipitating factors, symptoms, Applicant's weight over the past three years, relevant family history, course of treatment, psychotropic medications, mental health history inclusive of eating disorder behaviors, level of functioning, prognosis, risk of recurrence in a stressful overseas environment, recommendations for follow up, and any concerns that would prevent the Applicant from completing 27 months of service without unreasonable disruption due to the diagnosis. This form will be used as the basis for an individualized determination as to whether the Applicant will, with reasonable accommodation, be able to perform the essential functions of a Peace Corps Volunteer assignment and complete a tour of service without unreasonable disruption due to health problems. This form will also be used to determine the type of accommodation that may be needed, such as placement of the Applicant in a country with appropriate mental health support.

• Substance-Related and Addictive Disorders Current Evaluation Form

(a) Estimated number of Applicants/specialist 373/373

(b) Frequency of response one time

(c) Estimated average burden per response 165 minutes/60 minutes

(d) Estimated total reporting burden 1026 hours/373 hours

(e) Estimated annual cost to respondents Indeterminate

General Description of Collection: The Alcohol/Substance Abuse Current Evaluation Form is used when an Applicant reports in the Health History Form a history of substance abuse (i.e., alcohol or drug related problems such as blackouts, daily or heavy drinking patterns or the misuse of illegal or prescription drugs) and that this substance abuse affects the Applicant's daily living or that the Applicant has ongoing symptoms of substance abuse. In these cases, the Applicant is provided an Substance-Related and Addictive Disorders Current Evaluation Form for a substance abuse specialist to complete. The Substance-Related and Addictive Disorders Current Evaluation Form asks the substance abuse specialist to document the history of alcohol/substance abuse, dates and frequency of any therapy sessions, which alcohol/substance abuse assessment tools were administered, mental health diagnoses, psychotropic medications, self harm behavior, current clinical assessment of alcohol/substance use, clinical observations, risk of recurrence in a stressful overseas environment, recommendations for follow up, and any concerns that would prevent the Applicant from completing a tour of service without unreasonable disruption due to the diagnosis. This form will be used as the basis for an individualized determination as to whether the Applicant will, with reasonable accommodation, be able to perform the essential functions of a Peace Corps Volunteer and complete a tour of service without unreasonable disruption due to health problems. This form will also be used to determine the type of accommodation that may be needed, such as placement of the Applicant in a country with appropriate sobriety support or counseling support.

• Mammogram Waiver Form

(a) Estimated number of Applicants 148

(b) Frequency of response one time

(c) Estimated average burden per response 105 minutes

(d) Estimated total reporting burden 259 hours

(e) Estimated annual cost to respondents Indeterminate

General Description of Collection: The Mammogram Form is used for all Applicants who have female breasts and will be 50 years of age or older during service who wish to waive routine mammogram screening during service. If an Applicant waives routine mammogram screening during service, the Applicant's physician is asked to complete this form in order to make a general assessment of the Applicant's statistical breast cancer risk and discussed the results with the Applicant including the potential adverse health consequence of foregoing screening mammography.

• Cervical Cancer Screening Form

(a) Estimated number of Applicants 3600/3600

(b) Frequency of response one time

(c) Estimated average burden per response 40 minutes/30 minutes

(d) Estimated total reporting burden 2400 hours/1800 hours

(e) Estimated annual cost to respondents Indeterminate

General Description of Collection: The Cervical Cancer Screening Form is used with all Applicants with a cervix. Prior to medical clearance, female Applicants are required to submit a current cervical cancer screening examination and Pap cytology report based the American Society for Colploscopy and Cervical Pathology (ASCCP) screening time-line for their age and Pap history. This form assists the Peace Corps in determining whether an Applicant with mildly abnormal Pap history will need to be placed in a country with appropriate support.

• Colon Cancer Screening Form

(a) Estimated number of Applicants 575

(b) Frequency of response one time

(c) Estimated average burden per response 60 minutes-165 minutes

(d) Estimated total reporting burden 575 hours-1581 hours

(e) Estimated annual cost to respondents Indeterminate

General Description of Collection: The Colon Cancer Screening Form is used with all Applicants who are 50 years of age or older to provide the Peace Corps with the results of the Applicant's latest colon cancer screening. Any testing deemed appropriate by the American Cancer Society is accepted. The Peace Corps uses the information in the Colon Cancer Screening Form to determine if the Applicant currently has colon cancer. Additional instructions are included pertaining to abnormal test results.

• ECG Form

(a) Estimated number of Applicants/physicians 575/575

(b) Frequency of response one time

(c) Estimated average burden per response 25 minutes/15 minutes

(d) Estimated total reporting burden 240 hours/144 hours

(e) Estimated annual cost to respondents Indeterminate

General Description of Collection: The ECG/EKG Form is used with all Applicants who are 50 years of age or older to provide the Peace Corps with the results of an electrocardiogram. The Peace Corps uses the information in the electrocardiogram to assess whether the Applicant has any cardiac abnormalities that might affect the Applicant's service. Additional instructions are included pertaining to abnormal test results. The electrocardiogram is performed as part of the Applicant's physical examination.

• Reactive Tuberculin Test Evaluation Form

(a) Estimated number of Applicants/physicians 392/392

(b) Frequency of response one time

(c) Estimated average burden per response 75-105 minutes/30 minutes

(d) Estimated total reporting burden 490-686 hours/196 hours

(e) Estimated annual cost to respondents Indeterminate

General Description of Collection: The Reactive Tuberculin Test Evaluation Form is used when an Applicant reports a history of treatment for active tuberculosis or a history of a positive tuberculosis (TB) test on their Health History Form or if a positive TB test result is noted as a component of the Applicant's physical examination findings. In these cases, the Applicant is provided a Reactive Tuberculin Test Evaluation Form for the treating physician to complete. The treating physician is asked to document the type and date of a current TB test, TB test history, diagnostic tests if indicated, treatment history, risk assessment for developing active TB, current TB symptoms, and recommendations for further evaluation and treatment. In the case of a positive result on the TB test, a chest x-ray may be required, along with treatment for latent TB.

• Insulin Dependent Supplemental Documentation Form

(a) Estimated number of Applicants/physicians 14/14

(b) Frequency of response one time

(c) Estimated average burden per response 70 minutes/60 minutes

(d) Estimated total reporting burden 16 hours/14 hours

(e) Estimated annual cost to respondents Indeterminate

General Description of Collection: The Insulin Dependent Supplemental Documentation Form is used with Applicants who have reported on the Health History Form that they have insulin dependent diabetes. In these cases, the Applicant is provided an Insulin Dependent Supplemental Documentation Form for the treating physician to complete. The Insulin Dependent Supplemental Documentation Form asks the treating physician to document that he or she has discussed with the Applicant medication (insulin) management, including whether an insulin pump is required, as well as the care and maintenance of all required diabetes related monitors and equipment. This form assists the Peace Corps in determining whether the Applicant will be in need of insulin storage while in service and, if so, will assist the Peace Corps in determining an appropriate placement for the Applicant.

• Prescription for Eyeglasses Form

(a) Estimated number of Applicants/physicians 3,293/3,293

(b) Frequency of response one time

(c) Estimated average burden per response 60 minutes/15 minutes

(d) Estimated total reporting burden 3,293 hours/824 hours

(e) Estimated annual cost to respondents Indeterminate

General Description of Collection: The Prescription for Eyeglasses is used with Applicants who have reported on the Health History Form that they use corrective lenses or otherwise have uncorrected vision that is worse than 20/40. In these cases, Applicants are provided a Prescription for Eyeglasses Form for their prescriber to indicate eyeglasses frame measurements, lens instructions, type of lens, gross vision and any special instructions. This form is used in order to enable the Peace Corps to obtain replacement eyeglasses for a Volunteer during service.

• Required Peace Corps Immunizations Form

(a) Estimated number of Applicants/physicians 5,600

(b) Frequency of response one time

(c) Estimated average burden per response 60 minutes

(d) Estimated total reporting burden 5,600 hours

(e) Estimated annual cost to respondents Indeterminate

General Description of Collection: The Required Peace Corps Immunizations Form is used to informed Applicants of the specific vaccines and/or documented proof of immunity required for medical clearance for the specific country of service. The form advises the Applicant that all other Center for Disease Control (CDC) recommended vaccinations will be administered after arrival in-country. This form assists the Peace Corps with establishing a baseline of the Applicants immunization history and prepare for any additional vaccines recommended for country of service.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on June 12, 2024.
James Olin,
FOIA/Privacy Act Officer.

[FR Doc. 2024-13304 Filed 6-17-24; 8:45 am]

BILLING CODE 6051-01-P